ENVIRONMENTAL PROTECTION AGENCY

[EPA-OPP-2021-0743; FRL-13001-01-OCSPP]

Agency Information Collection Activities; Proposed Renewal Collection and Request for Comment; Reporting in the FIFRA Grant Database

AGENCY: Environmental Protection Agency (EPA).

ACTION: Notice.

SUMMARY: In compliance with the Paperwork Reduction Act (PRA), this document announces the availability of and solicits public comment on the following Information Collection Request (ICR) that EPA is planning to submit to the Office of Management and Budget (OMB): Reporting in the FIFRA Grant Database (EPA ICR No. 2511.04 and OMB Control No. 2070-0198). This ICR represents a renewal of an existing ICR that is currently approved through July 31, 2026. Before submitting the ICR to OMB for review and approval under the PRA, EPA is soliciting comments on specific aspects of the information collection that is summarized in this document. The ICR and accompanying material are available in the docket for public review and comment.

DATES: Comments must be received on or before January 20, 2026.

ADDRESSES: Submit your comments, identified by docket identification (ID) number Docket ID No. EPA-HQ-OPP-2021-0743, online at https://www.regulations.gov. Follow the online instructions for submitting comments. Do not submit electronically any information you consider to be Confidential Business Information (CBI) or other information whose disclosure is restricted by statute. Additional instructions on commenting or visiting the docket, along with more information about dockets generally, is available at https://www.epa.gov/dockets.

FOR FURTHER INFORMATION CONTACT: Carolyn Siu, Office of Program Support (Mail Code 7602M), Office of Chemical Safety and Pollution Prevention, Environmental Protection Agency, 1200 Pennsylvania Ave. NW, Washington, DC 20460-0001; telephone number: 202-566-1205; email address: siu.carolyn@epa.gov.

SUPPLEMENTARY INFORMATION:

I. What information is EPA particularly interested in?

Pursuant to PRA section 3506(c)(2)(A) (44 U.S.C. 3506(c)(2)(A)), EPA specifically solicits comments and information to enable it to:

1. Evaluate whether the proposed collection of information is necessary for the proper performance of the functions of the Agency, including whether the information will have practical utility.

2. Evaluate the accuracy of the Agency's estimates of the burden of the proposed collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

II. What information collection activity or ICR does this action apply to?

Title: Reporting in the FIFRA Grant Database.

EPA ICR No.: 2511.04.

OMB Control No.: 2070-0198.

ICR Status: This ICR is currently approved through July 31, 2026. Under the PRA, an agency may not conduct or sponsor, and a person is not required to respond to, a collection of information, unless it displays a currently valid OMB control number. The OMB control numbers for EPA's regulations in title 40 of the Code of Federal Regulations (CFR), after appearing in the Federal Register when approved, are displayed either by publication in the Federal Register or by other appropriate means, such as on the related collection instrument or form, if applicable. The display of OMB control numbers for certain EPA regulations is consolidated in 40 CFR part 9.

Abstract: This ICR describes the burden activities for the electronic collection of information for the pre-award burden activity for creating a work plan and the post-award and after-the-grant award activities related to reporting accomplishments to implement EPA's Federal Insecticide Fungicide and Rodenticide Act (FIFRA) State and Tribal Assistance Grant (STAG) program (7 U.S.C. 136u). This ICR assesses the reporting burden for FIFRA activities in the STAG program that is also covered in an ICR titled “General Performance Reporting for Assistance Programs” (EPA ICR No. 2802.01; OMB Control No. 2090-0038). The Agency grant ICR, ((EPA ICR No. 2802.01; OMB Control No. 2090-0038) collects information to track progress made by the Agency's financial assistance programs, with respect to effectiveness (e.g., the extent to which projects achieve their objectives, goals, and targets), and efficiency (e.g., the extent to which projects deliver activities and outputs on schedule and within budget). The reporting requirements for all recipients of EPA grants or cooperative agreements (assistance agreements) is covered by ICR, titled “EPA's General Regulation for Assistance Programs ICR” (EPA ICR No. 0938.18; OMB Control No. 2030-0020).

The ICR, which is available in the docket along with other related materials, provides a detailed explanation of the collection activities and the burden estimate that is only briefly summarized here:

Form number(s): 5700.

Respondents/affected entities: Entities potentially affected by this ICR include state, local governments, Indian tribes, and U.S. territories that are grantees of Federal funds participating in the FIFRA STAG program. The North American Industrial Classification System (NAICS) codes are identified in question 12 of the ICR.

Respondent's obligation to respond: Mandatory. 2 CFR 1500.

Estimated number of potential respondents: 80.

Frequency of response: Biannually.

Total estimated average number of responses for each respondent: 2.

Total estimated burden: 25,872 hours (per year). Burden is defined at 5 CFR 1320.3(b).

Total estimated costs: $2,580,269 (per year), includes $0 annualized capital investment or maintenance and operational costs.

III. Are there changes in the estimates from the last approval?

There is no change in the number of hours in the total estimated respondent burden compared with that identified in the ICR currently approved by OMB. The only change is the update of the wage rates for both respondents and the Agency. This change is an adjustment.

IV. What is the next step in the process for this ICR?

EPA will consider the comments received and amend the ICR as appropriate. The final ICR package will then be submitted to OMB for review and approval pursuant to 5 CFR 1320.12. EPA will issue another Federal Register document pursuant to 5 CFR 1320.5(a)(1)(iv) to announce the submission of the ICR to OMB and the opportunity to submit additional comments to OMB. If you have any questions about this ICR or the approval process, please contact the person listed under FOR FURTHER INFORMATION CONTACT.

Authority: 44 U.S.C. 3501 et seq.

Dated: October 18, 2025.
Nancy B. Beck,
Principal Deputy Assistant Administrator, Office of Chemical Safety and Pollution Prevention.

[FR Doc. 2025-20071 Filed 11-17-25; 8:45 am]

BILLING CODE 6560-50-P